DEPARTMENT OF DEFENSE

Department of the Army

Reserve Officers' Training Corps (ROTC) Program Subcommittee

AGENCY: Department of the Army, DoD.

ACTION: Notice of open meeting.

SUMMARY: In accordance with Section 10(a)(2) of the Federal Advisory Committee Act (5 U.S.C., App. 2), announcement is made of the following Committee meeting:

Name of Committee: Reserve Officers' Training Corps (ROTC) Program Subcommittee.

Dates of Meeting: February 13-14, 2007.

Location: Sheraton Crystal City Hotel, 1800 Jefferson Davis Highway, Arlington, VA 22202.

Time: 0730-1700 hours, February 13, 2007; 0730-1100 hours February 14, 2007.

Proposed Agenda: Review and discuss the Army's philosophy on training and education as it applies to and impacts the Reserve Officers' Training Corps program.

FOR FURTHER INFORMATION CONTACT: Mr. Pierre Blackwell, U.S. Army Cadet Command (ATCC-TR), Fort Monroe, VA 23651 at (757) 788-4326.

SUPPLEMENTARY INFORMATION: This meeting is open to the public. Any interested person may attend, appear before, or file statements with the committee.

Brenda S. Bowen,
Army Federal Register Liaison Officer.

[FR Doc. 07-142 Filed 1-17-07; 8:45 am]

BILLING CODE 3710-08-M